DEPARTMENT OF TRANSPORTATION

Surface Transportation Board

[STB Finance Docket No. 34751]

Louisiana Southern Railroad, Inc.—Lease and Operation Exemption—The Kansas City Southern Railway Company

Louisiana Southern Railroad, Inc. (LSRR), a noncarrier,¹ has filed a verified notice of exemption under 49 CFR 1150.31 to lease from The Kansas City Southern Railway Company (KCS) and operate four rail lines totaling approximately 165.8 miles. The rail lines are located between: (1) A point 1,600 feet south of LN&W milepost 62, near Gibsland, LA, and milepost B-192, near Pineville, LA; (2) milepost 148.8, at Winnfield, LA, and the end of the track, at Joyce, LA; (3) milepost 78.8, at Minden, LA, and milepost 83.5, at Sibley, LA; and (4) milepost 48.48, south of Springhill, LA, and milepost B-102, east of Hinkle, LA.

¹ LSRR is controlled by Watco Companies, Inc., a noncarrier that also controls thirteen (13) Class III railroads operating in thirteen States.

This transaction is related to STB Finance Docket No. 34752, Watco Companies, Inc.—Continuance in Control Exemption—Louisiana Southern Railroad, Inc., wherein Watco Companies, Inc., has concurrently filed a verified notice of exemption to continue in control of LSRR upon LSRR's becoming a Class III rail carrier.

LSRR certifies that the projected annual revenues as a result of this transaction will not result in the creation of a Class II or Class I rail carrier, and further certifies that its projected annual revenues will not exceed $5 million.

The transaction was scheduled to be consummated on or shortly after September 25, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34751, must be filed with the Surface Transportation Board, 1925 K Street, NW., Washington, DC 20423-0001. In addition, one copy of each pleading must be served on Karl Morell, Of Counsel, BALL JANIK LLP, Suite 225, 1455 F Street, NW., Washington, DC 20005.

Board decisions and notices are available on our Web site at http://www.stb.dot.gov.

Decided: October 3, 2005.
By the Board, David M. Konschnik, Director, Office of Proceedings.
Vernon A. Williams,
Secretary.

[FR Doc. 05-20245 Filed 10-6-05; 8:45 am]

BILLING CODE 4915-01-P